DEPARTMENT OF LABOR

Employment and Training Administration

[TA-W-53,794]

Weyerhaeuser, Bay City Sorting Yard, Cosmopolis, WA; Notice of Termination of Investigation

Pursuant to section 221 of the Trade Act of 1974, an investigation was initiated on December 12, 2003 in response to a worker petition which was filed by a State agency representative on behalf of workers at Weyerhaeuser, Bay City Sorting Yard, Cosmopolis, Washington (TA-W-53,794).

The petitioner has requested that the petition be withdrawn. Consequently, further investigation in this case would serve no purpose, and the investigation has been terminated.

Signed in Washington, DC this 9th day of January 2004.
Linda G. Poole,
Certifying Officer, Division of Trade Adjustment Assistance.

[FR Doc. 04-2600 Filed 2-5-04; 8:45 am]

BILLING CODE 4510-30-P